NATIONAL ARCHIVES AND RECORDS ADMINISTRATION

ERA Requirements Document; Request for Comment

AGENCY: National Archives and Records Administration (NARA).

ACTION: Notice of availability of document; request for comment.

SUMMARY: NARA is seeking public comment on the draft Electronic Records Archives (ERA) Requirements Document. ERA will be a comprehensive, systematic, and dynamic means for preserving virtually any kind of electronic record, free from dependence on any specific hardware or software. The ERA, when operational, will make it easy for NARA customers to find records they want and easy for NARA to deliver those records in formats suited to customers' needs. The Draft ERA Requirements Document specifies at a high level the capabilities that the ERA must possess. This document is available on the NARA Opportunities for Public Comment Web page at: http://www.archives.gov/about_us/opportunities_for_comment/opportunities_for_comment.html. For a paper copy of the document, contact the person listed in FOR FURTHER INFORMATION CONTACT.

DATES: Comments must be received by May 23, 2003.

ADDRESSES: Please send your comments by e-mail to ERA.Program@nara.gov or by mail to ERA Program (NHE), National Archives at College Park, Room 1540, 8601 Adelphi Rd., College Park, MD 20740-6001.

FOR FURTHER INFORMATION CONTACT: Electronic Records Archives Program at (301) 837-0740.

SUPPLEMENTARY INFORMATION: The ERA system will authentically preserve and provide access to any kind of electronic record. To do this, ideally the system would be able to take any type of record, from any entity in the Federal Government, created using any type of application, on any computing platform, and provide discovery and delivery to anyone with an interest and legal right of access, enabling NARA to carry out its mission into the future. Detailed background information on the ERA program is available at the ERA Web site, http://www.archives.gov/electronic_records_archives/about_era.html.

NARA seeks comments on whether the requirements for ERA are complete, comprehensive, consistent, and understandable. Where applicable, comments should be referenced to the numbering within the ERA Requirements Document.

Dated: April 15, 2003.
Nancy Y. Allard,
NARA Federal Register Liaison.

[FR Doc. 03-9587 Filed 4-17-03; 8:45 am]

BILLING CODE 7515-01-P